DEPARTMENT OF ENERGY

Federal Energy Regulatory Commission

[Docket No. ER96-719-003, et al.]

MidAmerican Energy Company, et al.; Electric Rate and Corporate Filings

November 9, 2004.

The following filings have been made with the Commission. The filings are listed in ascending order within each docket classification.

1. MidAmerican Energy Company

[Docket No. ER96-719-003]

On October 29, 2004, MidAmerican Energy Company (MidAmerican) submitted a compliance filing pursuant to the Commission's Order issued July 12, 2005, in Docket Nos. ER96-719-000 and EL04-106-000, 108 FERC ¶ 61,043 (2004).

Comment Date: 5 p.m. eastern time on November 19, 2004.

2. Amerada Hess Corporation Hess Energy, Inc.

[Docket Nos. ER97-2153-014 and ER00-2181-002]

Take notice that on November 1, 2004, Amerada Hess Corporation and Hess Energy, Inc. submitted for filing a Joint Triennial Updated Market Analysis.

Comment Date: 5 p.m. eastern time on November 22, 2004.

3. NorthWestern Energy

[Docket No. ER04-1106-001]

Take notice that on November 3, 2004, NorthWestern Energy (NEW) submitted, in response to the Commission's October 4, 2004, deficiency letter, additional information regarding its August 9, 2004, filing in Docket No. ER04-1106-000 of proposed modifications to its Open Access Transmission Tariff which included changes to Schedule 4—Energy Imbalance Service; a new Schedule 9—Generator Imbalance Service; and a new Attachment J containing the pro forma Large Generator Interconnection Procedures and Large Generator Interconnection Agreement.

Comment Date: 5 p.m. eastern time on November 24, 2004.

4. Pacific Gas and Electric Company

[Docket No. ER05-130-000]

Take notice that on November 1, 2004, Pacific Gas and Electric Company (PG&E) tendered for filing an unexecuted Interconnection Agreement between PG&E and Trinity Public Utilities District. PG&E requests an effective date of January 1, 2005.

Comment Date: 5 p.m. eastern time on November 22, 2004.

5. Pacific Gas and Electric Company

[Docket No. ER05-132-000]

Take notice that on November 1, 2004, Pacific Gas and Electric Company (PG&E) tendered for filing Generator Interconnection Agreements (GIA) between PG&E and each of the Western Area Power Administration's generating plants (New Melones Power Plant, O(Neill (San Luis Forebay) Pumping-Generating Plant, and Share of San Luis (William R. Gianelli) Pumping-Generating Plant).

PG&E states that copies of this filing have been served upon the Western Area Power Administration, the California Independent System Operator Corporation and the California Public Utilities Commission.

Comment Date: 5 p.m. eastern time on November 22, 2004.

6. Metcalf Energy Center, LLC

[Docket No. ES05-10-000]

Take notice that on October 26, 2004, Metcalf Energy Center, LLC (Metcalf) submitted an application pursuant to section 204 of the Federal Power Act seeking authorization to issue debt securities in an amount not to exceed $100 million.

Metcalf requests a waiver from the Commission's competitive bidding and negotiated placement requirements at 18 CFR 34.2.

Comment Date: 5 p.m. eastern time on November 30, 2004.

7. Trans-Elect NTD Path 15, LLC

[Docket No. ES05-11-000]

Take notice that on October 29, 2004, Trans-Elect NTD Path 15, LLC (NTD Path 15) requested authority to issue up to $40 million in additional equity to NTD Holdings Path 15.

NTD Path 15 also requests a waiver from the Commission's competitive bidding and negotiated placement requirements at 18 CFR 34.2.

Comment Date: 5 p.m. eastern time on November 30, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3205 Filed 11-17-04; 8:45 am]

BILLING CODE 6717-01-P